NUCLEAR REGULATORY COMMISSION

Requirements for Steam Generator Tube Inspections

AGENCY: Nuclear Regulatory Commission.

ACTION: Notice of issuance.

SUMMARY: The Nuclear Regulatory Commission (NRC) has issued Generic Letter (GL) 2004-01 to all holders of operating licenses for pressurized-water reactors (PWRs) except those who have permanently ceased operations and have certified that fuel has been permanently removed from the reactor vessel. The generic letter:

(1) Advises addressees that the NRC's interpretation of the technical specification (TS) requirements in conjunction with 10 CFR Part 50, Appendix B, raises questions as to whether certain licensee steam generator (SG) tube inspection practices ensure compliance with these requirements;

(2) Requests that addressees submit a description of the tube inspections performed at their plants, including an assessment of whether these inspections ensure compliance with the TS requirements in conjunction with 10 CFR Part 50, Appendix B;

(3) Requests that addressees who conclude they are not in compliance with the SG tube inspection requirements contained in their TS in conjunction with 10 CFR Part 50, Appendix B, propose plans for coming into compliance with these requirements; and

(4) Requests that addressees submit a tube structural and leakage integrity safety assessment that addresses any differences between their practices and the NRC's position regarding the requirements of the TS in conjunction with 10 CFR Part 50, Appendix B. A safety assessment should be submitted for all areas of the tube required to be inspected by the TS, where flaws have the potential to exist and inspection techniques capable of detecting these flaws are not being used. This assessment should include an evaluation of whether the inspection practices rely on an acceptance standard different from the TS acceptance standards and whether the technical basis for these inspection practices constitutes a change to the “method of evaluation” (as defined in 10 CFR 50.59) for establishing the structural and leakage integrity of the tube-to-tubesheet joint.

DATES: The generic letter was issued on August 30, 2004.

ADDRESSES: Not applicable.

FOR FURTHER INFORMATION CONTACT: Paul Klein, NRR, (301) 415-4030; e-mail: pak@nrc.gov or Maitri Banerjee, NRR; (301) 415-2277; e-mail: mxb@nrc.gov.

SUPPLEMENTARY INFORMATION: Generic Letter 2004-01 may be examined and/or copied for a fee at the NRC's Public Document Room, located at One White Flint North, 11555 Rockville Pike (first floor), Rockville, Maryland, and is accessible electronically from the Agencywide Documents Access and Management Systems (ADAMS) Public Electronic Reading Room on the Internet at the NRC Web site, http://www.nrc.gov/reading-rm/adams.html. The ADAMS Accession No. for the generic letter ML042370766.

If you do not have access to ADAMS or if there are problems in accessing documents located in ADAMS, contact the NRC Public Document Room (PDR) Reference staff at (301) 415-4737 or 1-800-397-4209, or by e-mail to pdr@nrc.gov.

For the Nuclear Regulatory Commission.
Dated at Rockville, Maryland, this 1st day of September 2004.
Francis M. Costello,
Acting Chief, Reactor Operations Branch, Division of Inspection Program Management, Office of Nuclear Reactor Regulation.

[FR Doc. 04-20390 Filed 9-8-04; 8:45 am]

BILLING CODE 7590-01-P